DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed information collection activities. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: National Outcome Measures (NOMs) for Consumers Receiving Mental Health Services—New

The mission of SAMHSA's Center for Mental Health Services (CMHS) is to treat mental illnesses by promoting mental health and by preventing the development or worsening of mental illness when possible. Congress created CMHS to bring new hope to adults who have serious mental illnesses and to children with serious emotional disorders.

The purpose of this proposed data activity is to promote the use of consistent measures among CMHS grantees and contractors funded through the Program of Regional and National Significance (PRNS) and Children's Mental Health Initiative (CMHI) budget lines. The common National Outcome Measures recommended by CMHS are a result of extensive examination and recommendations, using consistent criteria, by panels of staff, experts, and grantees. Wherever feasible, the proposed measures are consistent with or build upon previous data development efforts within CMHS. This activity will be organized to reflect and support the domains specified for SAMHSA's NOMs. The use of consistent measurement for specified outcomes across CMHS-funded projects will improve the ability of SAMHSA and CMHS to respond to the Government Performance and Results Act (GPRA) and the Office of Management and Budget Program Assessment Rating Tool (PART) evaluations.

A separate data collection form will be used for adults and children but will be parallel in design. NOMs data will be collected at baseline with a periodic reassessment being conducted every six months as long as the client remains in treatment. The proposed data collection will cover eight of the ten domains in NOMs. The Cost-Effectiveness and Evidence-Based Practices domains are under development. Completion of these domains will require input from other sources and is anticipated for Summer 2007.

¹ Retention is measured at the first interview for a continuing consumer (baseline), follow-up interview, and discharge interview. The survey was modified to include an item in Section K (Services Received) where the provider will indicate whether the consumer received Inpatient Psychiatric Care within the past 6 months; specifically, item 3 under Treatment Services.

Domain | Adult: Source | Adult: Number of items | Child: Source | Child: Number of items
Access/Capacity | SAMHSA Standardized Question | 4 | SAMHSA Standardized Question 4 | 4
Functioning | Mental Health Statistics Improvement Program (MHSIP) | 8 | Youth Services Survey for Families (YSS-F) | 6
Stability in Housing | SAMHSA Standardized Question | 1 | SAMHSA Standardized Question 2 | 2
Education and Employment | SAMHSA Standardized Question | 3 | SAMHSA Standardized Question 2 | 2
Crime and Criminal Justice | SAMHSA Standardized Question | 1 | SAMHSA Standardized Question 1 | 1
Perception of Care | MHSIP | 14 | YSS-F | 13
Social Connectedness | MHSIP | 4 | YSS-F | 4
Retention¹ | SAMSHA Standardized Question | 1 | SAMSHA Standardized Question | 1
Total Number |  | 36 |  | 33

In addition to questions asked of clients related to the NOMs domains, programs will be required to abstract information from client records on the services received.

Following is the estimated annual response burden for this effort.

Type of response | Number of respondents | Data collection per respondents | Hours per data collection | Total hour burden
Client Baseline Assessment | 23,575 | 1 | 0.333 | 7,858
Periodic Client Reassessment | 8,225 | 1 | 0.333 | 2,742
Chart Abstraction | 23,575 | 1 | 0.1 | 2,358
Total | 23,575 |  |  | 12,958

Send comments to Summer King, SAMHSA Reports Clearance Officer, Room 7-1045, 1 Choke Cherry Road, Rockville, MD 20850. Written comments should be received by August 8, 2006.

Dated: June 1, 2006.
Anna Marsh,
Director, Office of Program Services.

[FR Doc. E6-8990 Filed 6-8-06; 8:45 am]

BILLING CODE 4162-20-P